DEPARTMENT OF TRANSPORTATION

Federal Aviation Administration

14 CFR Part 39

[Docket No. FAA-2019-0207; Product Identifier 2019-NE-02-AD]

RIN 2120-AA64

Airworthiness Directives; Safran Aerosystems Life Jackets

AGENCY: Federal Aviation Administration (FAA), DOT.

ACTION: Notice of proposed rulemaking (NPRM).

SUMMARY: We propose to adopt a new airworthiness directive (AD) for certain Safran Aerosystems (formerly Zodiac Aerospace Services) life jackets. This proposed AD was prompted by reports of defective welding on certain life jackets around the inflation system. This proposed AD would require removal and replacement of the affected life jackets. We are proposing this AD to address the unsafe condition on these products.

DATES: We must receive comments on this proposed AD by May 30, 2019.

ADDRESSES: You may send comments, using the procedures found in 14 CFR 11.43 and 11.45, by any of the following methods:

• Federal eRulemaking Portal: Go to http://www.regulations.gov. Follow the instructions for submitting comments.

• Fax: 202 493 2251.

• Mail: U.S. Department of Transportation, Docket Operations, M-30, West Building Ground Floor, Room W12 140, 1200 New Jersey Avenue SE, Washington, DC, 20590.

• Hand Delivery: Deliver to Mail address above between 9 a.m. and 5 p.m., Monday through Friday, except Federal holidays.

For service information identified in this NPRM, contact Zodiac Aerospace Services, 61 Rue Pierre Curie, CS20001, 78370 Plaisir Cedex, France; phone: + 33 1 61 34 23 23; fax: + 33 1 61 34 21 13; email: Technical.Retrofit@zodiacaerospace.com; internet: http://tpi.services.zodiacaerospace.com. You may view this service information at the FAA, Engine and Propeller Standards Branch, 1200 District Avenue, Burlington, MA, 01803. For information on the availability of this material at the FAA, call 781-238-7759.

Examining the AD Docket

You may examine the AD docket on the internet at http://www.regulations.gov by searching for and locating Docket No. FAA-2019-0207; or in person at Docket Operations between 9 a.m. and 5 p.m., Monday through Friday, except Federal holidays. The AD docket contains this NPRM, the mandatory continuing airworthiness information (MCAI), the regulatory evaluation, any comments received, and other information. The street address for Docket Operations (phone: 800-647-5527) is listed above. Comments will be available in the AD docket shortly after receipt.

FOR FURTHER INFORMATION CONTACT: Erin King, Aerospace Engineer, Boston ACO Branch, FAA, 1200 District Avenue, Burlington, MA, 01803; phone 781-238-7655; fax: 781-238-7199; email: erin.king@faa.gov.

SUPPLEMENTARY INFORMATION:

Comments Invited

We invite you to send any written relevant data, views, or arguments about this proposal. Send your comments to an address listed under the ADDRESSES section. Include “Docket No. FAA-2019-0207; Product Identifier 2019-NE-02-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

The European Union Aviation Safety Agency (EASA), which is the Technical Agent for the Member States of the European Community, has issued EASA AD 2019-0010, dated January 23, 2019 (referred to after this as “the MCAI”), to address the unsafe condition on these products. The MCAI states:

Defective welding around the inflation system has been reportedly found on certain life jackets on the production line. Subsequent investigation results identified a batch of life jackets which might be affected by this manufacturing defect.

This condition, if not corrected, could lead to inability of the life jacket to perform its intended function, possible resulting in injury to the user of that life jacket.

To address this potential unsafe condition, Safran Aerosystems issued the SB, providing the list of affected parts, and the repair SB, providing instructions to repair affected parts.

For the reason described above, this [EASA] AD requires replacement of affected life jackets, and allows their (re)installation on an aircraft only after having being repaired.

You may obtain further information by examining the MCAI in the AD docket on the internet at http://www.regulations.gov by searching for and locating Docket No. FAA-2019-0207.

Related Service Information Under 1 CFR Part 51

We reviewed Zodiac Aerospace Services Service Bulletin (SB) 25-65-33, Revision 01, dated January 8, 2019, and Zodiac Aerospace Services SB 25-65-34, Original Issue, dated January 8, 2019. Zodiac Aerospace Services SB 25-65-33 describes procedures for identifying the affected life jackets by part number and serial number. Zodiac Aerospace Services SB 25-65-34 describes procedures for repairing the affected life jackets. This service information is reasonably available because the interested parties have access to it through their normal course of business or by the means identified in the ADDRESSES section.

FAA's Determination

This product has been approved by EASA, and is approved for operation in the United States. Pursuant to our bilateral agreement with the European Community, EASA has notified us of the unsafe condition described in the MCAI and service information referenced above. We are proposing this AD because we evaluated all the relevant information provided by EASA and determined the unsafe condition described previously is likely to exist or develop in other products of the same type design.

Proposed AD Requirements

This proposed AD would require removal and replacement of the affected life jackets.

Costs of Compliance

We estimate that this proposed AD affects an unknown number of life jackets installed on, but not limited to, ATR-GIE Avions de Transport Regional ATR 42 and ATR 72, Airbus A318/A319/A320/A321, Airbus A330, Airbus A340, Airbus A350, and Airbus A380 airplanes of U.S. registry. Operators have the option to replace or repair the affected life jackets. We have no way of determining the number of life jackets that might be replaced or repaired.

We estimate the following costs to comply with this proposed AD:

Estimated Costs
Action | Labor cost | Parts cost | Cost per product
Inspect life jacket | 0.1 work-hours × $85 per hour = $8.50 | $0 | $8.50
Replace life jacket | 0.5 work-hours × $85 per hour = $42.50 | 96 | 138.50
Repair life jacket | 0.5 work-hours × $85 per hour = $42.50 | 0 | 42.50

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Safran Aerosystems (formerly Zodiac Aerospace Services): Docket No. FAA-2019-0207; Product Identifier 2019-NE-02-AD.

(a) Comments Due Date

We must receive comments by May 30, 2019.

(b) Affected ADs

None.

(c) Applicability

(1) This AD applies to Safran Aerosystems life jackets with part number (P/N) 210225-2, P/N 216200-0, or P/N 216203-0, and with a serial number listed in Table 1 of Zodiac Aerospace Services Service Bulletin (SB) 25-65-33, Revision 01, dated January 8, 2019, that are not marked with “Mod.per SB 25-65-34” in the identification area.

(2) These appliances are installed on, but not limited to, ATR-GIE Avions de Transport Regional ATR 42 and ATR 72, Airbus A318/A319/A320/A321, Airbus A330, Airbus A340, Airbus A350, and Airbus A380 airplanes.

(d) Subject

Joint Aircraft System Component (JASC) Code 2561, Life Jacket.

(e) Unsafe Condition

This AD was prompted by reports of defective welding on certain life jackets around the inflation system. We are issuing this AD to prevent failure of the life jacket. The unsafe condition, if not addressed, could result in injury to the wearer of the life jacket.

(f) Compliance

Comply with this AD within the compliance times specified, unless already done.

(g) Required Actions

Within six months after the effective date of this AD, remove each affected life jacket from the airplane and, before further flight, replace the life jacket with a life jacket eligible for installation.

(h) Installation Prohibition

After the effective date of this AD, do not install on any airplane an affected life jacket unless it has been repaired and marked to indicate compliance with such repair in accordance with Zodiac Aerospace Services SB 25-65-34, Original Issue, dated January 8, 2019, or a method approved by the FAA.

(i) Definition

A life jacket eligible for installation is a new life jacket or a life jacket repaired in accordance with Zodiac Aerospace Services SB 25-65-34, Original Issue, dated January 8, 2019, or by a method approved by the FAA.

(j) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the ACO Branch, send it to the attention of the person identified in paragraph (k)(1) of this AD.

(2) Before using any approved AMOC, notify your appropriate principal inspector, or lacking a principal inspector, the manager of the local flight standards district office/certificate holding district office.

(k) Related Information

(1) For more information about this AD, contact Erin King, Aerospace Engineer, Boston ACO Branch, FAA, 1200 District Avenue, Burlington, MA, 01803; phone 781-238-7655; fax: 781-238-7199; email: erin.king@faa.gov.

(2) Refer to European Union Aviation Safety Agency (EASA) AD 2019-0010, dated January 23, 2019, for more information. You may examine the EASA AD in the AD docket on the internet at http://www.regulations.gov by searching for and locating it in Docket No. FAA-2019-0207.

(3) For service information identified in this AD, contact Zodiac Aerospace Services, 61 Rue Pierre Curie, CS20001, 78370 Plaisir Cedex, France; phone: + 33 1 61 34 23 23; fax: + 33 1 61 34 21 13; email: Technical.Retrofit@zodiacaerospace.com; internet: http://tpi.services.zodiacaerospace.com. You may view this referenced service information at the FAA, Engine and Propeller Standards Branch, 1200 District Avenue, Burlington, MA, 01803. For information on the availability of this material at the FAA, call 781-238-7759.

Issued in Burlington, Massachusetts, on April 10, 2019.
Robert J. Ganley,
Manager, Engine and Propeller Standards Branch, Aircraft Certification Service.

[FR Doc. 2019-07426 Filed 4-12-19; 8:45 am]

BILLING CODE 4910-13-P